DEPARTMENT OF COMMERCE

Patent and Trademark Office

37 CFR Part 42

[Docket No. PTO-P-2019-0011]

RIN 0651-AD34

Rules of Practice To Allocate the Burden of Persuasion on Motions To Amend in Trial Proceedings Before the Patent Trial and Appeal Board

Correction

In rule document 2020-28159 appearing on pages 82923-82936 in the issue of Monday, December 21, 2020, make the following correction:

(1) On page 82924, in the first column, in the DATES section, in the second line under the heading, change “January 20, 2021” to read “January 21, 2021.”

(2) On page 82924, in the first column, in the DATES section, in the sixth line under the heading, change “January 20, 2021” to read “January 21, 2021.”

[FR Doc. C1-2020-28159 Filed 1-12-21; 8:45 am]

BILLING CODE 1301-00-D